SECURITIES AND EXCHANGE COMMISSION

[Release No. IC-24622]

Notice of Applications for Deregistration Under Section 8(f) of the Investment Company Act of 1940

August 25, 2000.

The following is a notice of applications for deregistration under section 8(f) of the Investment Company Act of 1940 for the month of August, 2000. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on September 19, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609.

FOR FURTHER INFORMATION CONTACT: Diane L. Titus, at (202) 942-0564, SEC, Division of Investment Management, Office of Investment Company Regulation, 450 Fifth Street, NW., Washington, DC 20549-0506.

Dreyfus Retirement Income Fund [File No. 811-8889]

Summary: Applicant seeks an order declaring that it has ceased to be an investment company. On October 31, 1999, applicant made a final liquidating distribution to its sole remaining shareholder based on net asset value. Expenses of $1,500 incurred in connection with the liquidation were paid by The Dreyfus Corporation, applicant's investment adviser.

Filing Date: The application was file don August 3, 2000.

Applicant's Address: 200 Park Avenue, New York, New York 10166.

Piper Institutional Funds Inc. [File No. 811-7320]

Summary: Applicant seeks an order declaring that it has ceased to be an investment company. By June 30, 1998, applicant had made liquidating distributions to its shareholders based on net asset value. Expenses of $10,461 incurred in connection with the liquidation were paid by applicant's investment adviser, Piper Capital Management, Inc.

Filing Dates: The application was filed on June 28, 2000, and amended on August 9, 2000.

Applicant's Address: First American Asset Management, U.S. Bank Place, 601 Second Avenue South, Minneapolis, Minnesota 55402.

The Parkstone Group of Funds [File No. 811-5105]

Summary: Applicant seeks an order declaring that it has ceased to be an investment company. By June 16, 2000, each series of applicant had transferred its assets to a corresponding series of the Armada Funds based on net asset value. Expenses of $525,166 incurred in connection with the reorganization were paid by the acquiring funds and National City Bank of Michigan/Illinois.

Filing Date: The application was filed on August 10, 2000.

Applicant's Address: One Freedom Valley Drive, Oaks, Pennsylvania 19456.

The Berwyn Fund, Inc. [File No. 811-3890]

Summary: Applicant seeks an order declaring that it has ceased to be an investment company. On May 3, 1999, applicant transferred its assets to The Berwyn Funds based on net asset value. Expenses of $75,000 incurred in connection with the reorganization were paid by the two series of The Berwyn Funds that resulted from the reorganization.

Filing Dates: The application was filed on May 23, 2000, and amended on May 23, 2000, and August 20, 2000.

Applicant's Address: 1189 Lancaster Avenue, Berwyn, Pennsylvania 19312.

The Taiwan Equity Fund, Inc. [File No. 811-8290]

Summary: Applicant seeks an order declaring that it has ceased to be an investment company. On June 27, 2000, applicant made its final liquidating distribution to shareholders based on net asset value. Applicant's custodian, Daiwa Securities Trust Company, has retained $132,108 to cover current and anticipated liabilities and expenses. Expenses of $66,211 incurred in connection with the liquidation were paid by applicant.

Filing Dates: The application was filed on July 13, 2000, and amended on August 18, 2000.

Applicant's Address: c/o Daiwa Securities Trust Company, One Evertrust Plaza, Jersey City, New Jersey 07302.

The Americas Income Trust Inc. [File No. 811-8094]

Summary: Applicant seeks an order declaring that it has ceased to be an investment company. On July 24, 1998, applicant transferred its assets to First American Investment Funds, Inc. based on net asset value. Expenses of $19,524 incurred in connection with the reorganization were paid by U.S. Bank National Association, investment adviser to the acquiring fund.

Filing Dates: The application was filed on June 28, 2000, and amended on August 9, 2000.

Applicant's Address: First American Asset Management, U.S. Bank Place, 601 Second Avenue South, Minneapolis, Minnesota 55402.

INVESCO Specialty Funds, Inc. [File No. 811-8528]

Summary: Applicant seeks an order declaring that it has ceased to be an investment company. By February 15, 2000, each of applicant's 6 series had transferred all of their assets to a corresponding series of either INVESCO International Funds, Inc., INVESCO Stock Funds, Inc., or INVESCO Sector Funds, Inc., based on net asset value. INVESCO Funds Group, Inc., applicant's investment adviser, paid $355,266 of the expenses incurred in connection with the reorganization, and the remaining $355,266 of expenses were paid by applicant and the acquiring funds.

Filing Dates: The application was filed on July 24, 2000, and amended on August 17, 2000.

Applicant's Address: 700 E. Union Avenue, Denver, Colorado 80237.

Daruma Mid-Cap Value Fund [File No. 811-7621]

Summary: Applicant seeks an order declaring that it has ceased to be an investment company. On June 30, 2000, applicant distributed all of its assets to its shareholders based on net asset value. Expenses of $14,500 in incurred in connection with the liquidation were paid by Daruma Asset Management, Inc., applicant's investment adviser.

Filing Date: The application was filed on July 21, 2000.

Applicant's Address: 60 East 42nd Street, Suite 1111, New York, New York 10165.

Norwest Advantage Funds [File No. 811-4881]

Summary: Applicant seeks an order declaring that it has ceased to be an investment company. On November 8, 1999, applicant transferred its assets to Wells Fargo Funds Trust based on net asset value. Expenses of $1,465,212 incurred in connection with the reorganization were paid by Wells Fargo Bank, N.A., the administrator of the acquiring fund.

Filing Dates: The application was filed on June 19, 2000, and amended on July 28, 2000.

Applicant's Address: Two Portland Square, Portland, Maine 04101.

Merrill Lynch Insured Equity Funds, Inc. [File No. 811-7539]

Summary: Applicant seeks an order declaring that it has ceased to be an investment company. Applicant never made a public offering of its securities and does not propose to make any public offering or engage in business of any kind.

Filing Dates: The application was filed on June 7, 2000, and amended on July 26, 2000.

Applicant's Address: c/o Merrill Lynch Investment Managers, L.P., P.O. Box 9011, Princeton, New Jersey 08543-9011.

The Optimal Fund [File No. 811-9219]

Summary: Applicant seeks an order declaring that it has ceased to be an investment company. On April 28, 2000, applicant made a final liquidating distribution to its shareholders based on net asset value. Expenses of approximately $13,300 incurred in connection with the liquidation were paid by applicant.

Filing Dates: The application was filed on May 26, 2000, and amended on July 21, 2000.

Applicant's Address: 3400 Inland Empire Blvd., Suite 101, Ontario, California 91764.

Colonial Massachusetts Insured Municipal Fund [File No. 811-9535]

Summary: Applicant seeks an order declaring that it has ceased to be an investment company. Applicant has never made a public offering of its securities and does not propose to make any public offering or engage in business of any kind.

Filing Date: The application was filed on July 17, 2000.

Applicant's Address: One Financial Center, 11th Floor, Boston, Massachusetts 02111.

First Investors High Yield Fund, Inc. [File No. 811-4674]

Summary: Applicant seeks an order declaring that it has ceased to be an investment company. On March 14, 2000, applicant transferred its assets to First Investors Fund for Income, Inc. based on net asset value. Expenses of $69,636 incurred in connection with the reorganization were paid by applicant, the acquiring fund, and applicant's investment adviser.

Filing Date: The application was filed on June 20, 2000.

Applicant's Address: 95 Wall Street, New York, New York 10005.

Evergreen Small Company Growth Fund (formerly Keystone Small Company Growth Fund (S-4)) [File No. 811-101] Evergreen Small Company Growth Fund II (formerly Keystone Small Company Growth Fund II) [File No. 811-7457]

Summary: Each applicant seeks an order declaring that it has ceased to be an investment company. On January 24, 1998, each applicant transferred all of its assets to Evergreen Small Company Growth Fund, a newly created series of Evergreen Equity Trust, based on net asset value. First United National Bank, the parent of applicants' investment adviser, paid all expenses incurred in connection with each reorganization.

Filing Date: Each application was filed on August 17, 2000.

Applicants' Address: 200 Berkeley Street, Boston, Massachusetts 02116.

Trust for Federal Securities [File No. 811-2573]

Summary: Applicant seeks an order declaring that it has ceased to be an investment company. On February 10, 1999, applicant transferred its assets to Provident Institutional Funds based on net asset value. Applicant incurred no expenses in connection with the reorganization.

Filing Date: The application was filed on August 4, 2000.

Applicants' Address: 400 Bellevue Parkway, Wilmington, Delaware 19809.

For the Commission, by the Division of Investment Management, pursuant to delegated authority.
Margaret H. McFarland,
Deputy Secretary.

[FR Doc. 00-22318 Filed 8-30-00; 8:45 am]

BILLING CODE 8010-01-M